DEPARTMENT OF TRANSPORTATION

Office of the Secretary

Notice of Applications for Certificates of Public Convenience and Necessity and Foreign Air Carrier Permits Filed Under Subpart B (Formerly Subpart Q) During the Week Ending November 28, 2009

The following Applications for Certificates of Public Convenience and Necessity and Foreign Air Carrier Permits were filed under Subpart B (formerly Subpart Q) of the Department of Transportation's Procedural Regulations (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0310.

Date Filed: November 24, 2009.

Due Date for Answers, Conforming Applications, or Motion to Modify Scope:November 23, 2009.

Description:Application of Jin Air Company, Limited “Jin Air” requesting an exemption and foreign air carrier permit authorizing Jin Air to engage in scheduled foreign air transportation of persons, property and mail between Seoul, Republic of Korea, on the one hand, and the United States territory of Guam, on the other hand. Jin Air also requests authority to operate charters.

Renee V. Wright,
Program Manager, Docket Operations, Federal Register Liaison.

[FR Doc. E9-29774 Filed 12-14-09; 8:45 am]

BILLING CODE 4910-9X-P